DEPARTMENT OF THE INTERIOR

Bureau of Land Management

[LLES956000 L14200000.BJ0000 15X]

Eastern States: Filing of Plats of Survey

AGENCY: Bureau of Land Management, Interior.

ACTION: Notice.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Survey in Arkansas requested by the Quapaw Tribe of Oklahoma. Surveys in Iowa were requested by the National Park Service. Surveys in Wisconsin and Mississippi were requested by the Bureau of Indian Affairs.

The lands surveyed are:

Fifth Principal Meridian, Arkansas

T. 1 N., R. 11 W.

The plat of survey represents the dependent resurvey of a portion of the subdivisional lines and the survey of the subdivision of sections 22 and 27 of Township 1 North, Range 11 West, of the Fifth Principal Meridian, in the State of Arkansas, and was accepted September 25, 2014.

Fifth Principal Meridian, Iowa

T. 95 N., R. 3 W.

The plat of survey represents the dependent resurvey of a portion of the subdivisional lines, a portion of the 1838 adjusted record meanders, the survey of the subdivision of section 10, and the metes-and-bounds surveys of the Effigy Mounds National Monument boundary of Township 95 North, Range 3 West, of the Fifth Principal Meridian, in the State of Iowa, and was accepted October 22, 2014.

T. 96 N., R. 3 W.

The plat of survey represents the dependent resurvey of a portion of the south boundary, a portion of the subdivisional lines, a portion of the adjusted 1849 record meanders; the survey of the subdivision of sections 27, 28, 29, 31, 32, and 33, the survey of the Effigy Mounds National Monument boundary in the west half of the southwest quarter of section 27, and the informational traverse of the westerly right-of-way line of Iowa State Highway 76 in the west half of the southeast quarter of section 28 of Township 96 North, Range 3 West, of the Fifth Principal Meridian, in the State of Iowa, and was accepted September 29, 2014.

Choctaw Meridian, Mississippi

T. 13 N., R. 7 E.

The plat of survey represents the dependent resurvey of a portion of the north boundary and the survey of a parcel of land held in trust for the Mississippi Band of Choctaw Indians in sections 2 and 3 of Township 13 North, Range 7 East, of the Choctaw Meridian, in the State of Mississippi, and was accepted September 24, 2014.

T. 13 N., R. 7 E.

The plat of survey represents the dependent resurvey of a portion of the south and east boundaries and a portion of the subdivisional lines, the subdivision of sections 25, 35 and 36, and the survey of land held in trust for the Mississippi Band of Choctaw Indians in sections 25, 35 and 36 of Township 13 North, Range 7 East, of the Choctaw Meridian, in the State of Mississippi, and was accepted September 30, 2014.

Fourth Principal Meridian, Wisconsin

T. 51 N., R. 3 W.

The plat of survey represents the retracement, resurvey and monumentation of certain boundaries of lands held in trust for the Red Cliff Band of Lake Superior Chippewa, east of state highway 13 in government lot 2 of section 31, Township 51 North, Range 3 West, Fourth Principal Meridian, in the State of Wisconsin, and was accepted September 25, 2014.

We will place a copy of the plats we described in the open files. They will be available to the public as a matter of information.

If BLM receives a protest against the surveys, as shown on the plat, prior to the date of the official filing, we will stay the filing pending our consideration of the protest.

We will not officially file the plats until the day after we have accepted or dismissed all protests and they have become final, including decisions on appeals.

Dated: November 19, 2014.
Dominica VanKoten,
Chief Cadastral Surveyor.

[FR Doc. 2014-27876 Filed 11-24-14; 8:45 am]

BILLING CODE 4310-GJ-P